DEPARTMENT OF COMMERCE

International Trade Administration

[A-427-602]

Brass Sheet and Strip From France: Rescission of Antidumping Duty Administrative Review; 2012-2013

AGENCY: Import Administration, International Trade Administration, Department of Commerce.

DATES: Effective Date: September 13, 2013.

FOR FURTHER INFORMATION CONTACT: Mark Flessner or Robert James, AD/CVD Operations, Office 7, Import Administration, International Trade Administration, U.S. Department of Commerce, 14th Street and Constitution Avenue NW., Washington, DC 20230; telephone: (202) 482-6312 or (202) 482-0469, respectively.

SUPPLEMENTARY INFORMATION:

Background

On March 1, 2013, the Department of Commerce (the Department) published in the Federal Register a notice of “Opportunity to Request Administrative Review” of the antidumping duty order on brass sheet and strip from France for the period of review (POR) of March 1, 2012, through February 28, 2013.¹ The Department received a timely request from petitioners GBC Metals, LLC (of Global Brass and Copper, Inc., doing business as Olin Brass), Heyco Metals, Inc., Aurubis Buffalo, Inc., PMX Industries, Inc., and Revere Copper Products, Inc. (collectively, petitioners), in accordance with 19 CFR 351.213(b), for an administrative review of the antidumping duty order on brass sheet and strip from France. On May 1, 2013, the Department published a notice of initiation of an administrative review of the antidumping duty order on brass sheet and strip from France with respect to two companies, Griset, S.A. and KME France (formerly known as Trefimetaux).²

¹ See Antidumping or Countervailing Duty Order, Finding, or Suspended Investigation; Opportunity To Request Administrative Review, 78 FR 13858 (March 1, 2013).

² See Initiation of Antidumping and Countervailing Duty Administrative Reviews and Request for Revocation in Part, 78 FR 25418 (May 1, 2013).

The Department stated in its initiation of this review that it intended to rely on U.S. Customs and Border Protection (CBP) data to select respondents.³ However, our review of the CBP database, with respect to the companies for which this review was requested, showed no entries of subject merchandise during the POR.⁴ We released the results of our CBP data query to the petitioners (the only interested party to this segment of the proceeding) and invited them to comment on the CBP data. We received no comments on the CBP data.

³ Id.

⁴ See Memorandum from Mark Flessner to the File entitled, “Brass Sheet and Strip from France: Placement on the Record of Results of Inquiry to U.S. Customs and Border Patrol for 2012-2013 Period of Review,” dated June 3, 2013; note that the agency's proper title, U.S. Customs and Border Protection, was misstated in the memorandum title.

Rescission of Review

Section 351.213(d)(1) of the Department's regulations stipulates that the Secretary will rescind an administrative review under this section, in whole or in part, if a party that requested a review withdraws the request within 90 days of the date of publication of notice of initiation of the requested review. As the only party that requested a review (petitioners) withdrew the request within 90 days of the date of publication of notice of initiation of the requested review, we are rescinding this review of the antidumping duty order on brass sheet and strip from France pursuant to 19 CFR 351.213(d)(1).⁵ We intend to issue assessment instructions to CBP 15 days after the date of publication of this notice of rescission of administrative review.

⁵ See letter from petitioners to the Secretary of Commerce entitled, “Brass Sheet and Strip from France,” dated July 30, 2013, at 2.

This notice is published in accordance with section 751 of the Tariff Act of 1930, as amended, and 19 CFR 351.213(d)(4).

Dated: September 5, 2013.
Christian Marsh,
Deputy Assistant Secretary for Antidumping and Countervailing Duty Operations.

[FR Doc. 2013-22354 Filed 9-12-13; 8:45 am]

BILLING CODE 3510-DS-P